DEPARTMENT OF HEALTH AND HUMAN SERVICES

Administration on Aging

Agency Information Collection Activities; Extension of Collection; Comment Request; Title III and VII State Program Report

AGENCY: Administration on Aging, HHS.

ACTION: Notice.

SUMMARY: The Administration on Aging (AoA) is announcing an opportunity for public comment on the extension of collection of certain information by the agency. Under the Paperwork Reduction Act of 1995 (the PRA), Federal agencies are required to publish notice in the Federal Register concerning each proposed collection of information, including each proposed extension of an existing collection of information, and to allow 60 days of public comment in response to the notice. This notice solicits comments on the information collection requirements relating to Title III and VII State Program Report.

DATES: Submit written or electronic comments on the collection of information by December 18, 2006.

ADDRESSES: Submit electronic comments on the collection of information to: saadia.greenberg@aoa.hhs.gov. Submit written comments on the collection of information to Administration on Aging, Office of Evaluation, Washington, DC 20201 Attention: SPR Comments.

FOR FURTHER INFORMATION CONTACT: Saadia Greenberg at 202-357-3554 or e-mail: saadia.greenberg@aoa.hhs.gov.

SUPPLEMENTARY INFORMATION: Under the PRA (44 U.S.C. 3501-3520), Federal agencies must obtain approval from the Office of Management and Budget (OMB) for each collection of information they conduct or sponsor.

“Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the extension of collection of information set forth in this document. With respect to the following collection of information, AoA invites comments on: (1) Whether the collection of information is necessary for the proper performance of AoA's functions, including whether the information will have practical utility; (2) the accuracy of AoA's estimate of the burden of the collection of information, including the validity of the methodology and assumptions used; (3) ways to enhance the quality, utility, and clarity of the information to be collected; and (4) ways to minimize the burden of the collection of information on respondents, including through the use of automated collection techniques when appropriate, and other forms of information technology.

The Older Americans Act (OAA) requires annual program performance reports from States. In compliance with this OAA provision, AoA developed a new State Program Report (SPR) in 1996 as part of its National Aging Program Information System (NAPIS). The SPR collects information about how State Agencies on Aging expend their OAA funds as well as funding from other sources for OAA authorized supportive services. The SPR also collects information on the demographic and functional status of the recipients. This collection was revised in November 2004 (OMB Approval Number 0985-0008). The proposed data collection continuation format remains unchanged from the November 2004 document. It may be found on the AoA Web site at http://www.aoa.gov/prof/agingnet/NAPIS/docs/SPR-Modified-Form-11.08.04.pdf. AoA estimates the burden of this collection of information as follows: 2,606 hours.

Dated: October 12, 2006.
Josefina G. Carbonell,
Assistant Secretary for Aging.

[FR Doc. E6-17251 Filed 10-16-06; 8:45 am]

BILLING CODE 4154-01-P